DEPARTMENT OF COMMERCE

National Oceanic and Atmospheric Administration

Hydrographic Services Review Panel Meeting

AGENCY: National Ocean Service, National Oceanic and Atmospheric Administration (NOAA), Department of Commerce

ACTION: Notice of open meeting.

SUMMARY: The Hydrographic Services Review Panel (HSRP) is a Federal Advisory Committee established to advise the Under Secretary of Commerce for Oceans and Atmosphere, the NOAA Administrator, on matters related to the responsibilities and authorities set forth in section 303 of the Hydrographic Services Improvement Act of 1998, as amended, and such other appropriate matters that the Under Secretary refers to the Panel for review and advice.

DATE AND TIME: The public meeting will be held from September 16-18, 2015, September 16, 10:30 a.m. to 6:00 p.m.; September 17, 9:00 a.m. to 3:00 p.m.; and September 18, 8:00 a.m. to 5:00 p.m. All meetings times are EDT.

LOCATION: Silver Spring, MD, with the meeting location to be posted online at the Web site below. Please refer to the following Web site for updates on the location, agenda, presentations, speaker's biographies, and Web conferencing service sign up: http://www.nauticalcharts.noaa.gov/ocs/hsrp/meetings.htm and http://www.nauticalcharts.noaa.gov/ocs/hsrp/meetings_washingtondc.htm.

FOR FURTHER INFORMATION CONTACT: Visit the NOAA HSRP Web site at http://www.nauticalcharts.noaa.gov/ocs/hsrp/hsrp.htm, or contact Lynne Mersfelder-Lewis, HSRP Program Manager, National Ocean Service (NOS), Office of Coast Survey, NOAA (N/NSD), 1315 East West Highway, Silver Spring, Maryland 20910; Telephone: 301-713-2702 ext. 199; Email: lynne.mersfelder@noaa.gov.

SUPPLEMENTARY INFORMATION: The meeting will be open to the public and public comment periods (on-site) will be scheduled at various times throughout the meeting. Public comment periods will be included in the draft and final agendas posted on the HSRP Web site listed above and written comments are welcome in advance. Each individual or group making verbal comments will be limited to a total time of five (5) minutes. Comments will be recorded. Advance written comments should be submitted to Lynne.Mersfelder@noaa.gov by September 4, 2015. Public seating will be available on a first-come, first-served basis. This meeting is accessible to people with disabilities. Requests for sign language interpretation or other auxiliary aids should be directed to Lynne.Mersfelder@noaa.gov by September 4, 2015. The HSRP meeting will provide Web conferencing service and teleconference capability for access to listen and observe the meeting presentations. Members of the public who wish to participate virtually must register at least a day in advance by September 15, 2015. The meeting times, topics, and speakers are subject to change. For updated information and to register for the Web conferencing service, please refer to http://nauticalcharts.noaa.gov/ocs/hsrp/hsrp.htm.

MATTERS TO BE CONSIDERED: National and Federal partners and stakeholders will present to the HSRP on issues relevant to NOAA's navigation services. Navigation services includes the data, products, and services provided by the NOAA programs and activities which undertake geodetic observations, gravity modeling, shoreline mapping, bathymetric mapping, hydrographic surveying, nautical charting, tide and water level observations, current observations, and marine modeling. This suite of geospatial data, products and services support safe and efficient navigation, resilient coasts and communities, and the nationwide positioning information infrastructure to build America for the future.

The Panel will hear from Federal agencies and non-Federal associations about their mission or business uses for NOAA's navigation services; what value these services bring; and what improvements could be made to NOAA's navigation services. Other business will include reports by the HSRP working groups on their progress or results in response to NOAA's tasking on coastal intelligence and resilience, and emerging Arctic priorities.

The Panel will consider input from these discussions to develop recommendations for the NOAA Under Secretary to improve NOAA's navigation services.

Dated: July 31, 2015.
Rear Admiral Gerd F. Glang,
Director, Office of Coast Survey, National Ocean Service, National Oceanic and Atmospheric Administration

[FR Doc. 2015-19552 Filed 8-7-15; 8:45 am]

BILLING CODE 3510-22P